DEPARTMENT OF LABOR

Office of The Secretary

Submission for OMB Emergency Review; Comment Request

May 3, 2002.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by June 1, 2002. A copy of this ICR, with applicable supporting documentation, may be obtained by calling the Department of Labor. To obtain documentation, contact Darrin King on (202) 693-4129 or Email: King-Darrin@dol.gov.

Comments and questions about the ICR listed below should be forwarded to the Office of Information and Regulatory Affairs, Attn: OMB Desk Officer for the Employment and Training Administration, Room 10235, Washington, DC 20503. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employment and Training Administration (ETA).

Title: Temporary Extended Unemployment Compensation Reports.

OMB Number: 1205-0NEW.

Affected Public: State, Local, or Tribal Government.

Annualized Reporting Burden (time measured in hours):

Number of respondents | Estimated time per response | Number of reports | Total burden
ETA207 53 | 0.5 | 4 | 106
ETA218 53 | 0.2 | 4 | 42
ETA227 53 | 1.0 | 4 | 212
ETA2112 53 | 0.2 | 12 | 127
ETA5130 53 | 1.0 | 12 | 636
ETA5159 53 | 1.0 | 12 | 636
ETA539 53 | 0.01 | 52 | 28

Total Burden Hours: 1,787.

Total Burden Cost (capital/startup): $0.

Total Burden Cost (operating/maintaining): $ 0.

Description: On March 9, 2002, President Bush signed into law the Temporary Extended Unemployment Compensation (TEUC) program. This program provides up to 26 weeks of additional unemployment benefits to eligible claimants who have exhausted their regular entitlement. This is a temporary, federally funded program enacted through December 31, 2002. To properly administer and monitor this program, specific information is required from states. The information requested through these reports are necessary for proper administer of the program and interpretation of labor market conditions. Approval is not being sought for any new forms, but rather, approval is being sought for an additional use of existing forms. There are no state costs since the states are funded for reporting.

Darrin A. King,
Acting Departmental Clearance Officer.

[FR Doc. 02-11631 Filed 5-8-02; 8:45 am]

BILLING CODE 4510-30-P